DEPARTMENT OF THE INTERIOR

Bureau of Land Management

[AK-910-1310-DB-NSSI-241A]

Notice of Correction to the Notice of Minor Amendments to the Charter of the Science Technical Advisory Panel for the North Slope Science Initiative and Call for Nominations

AGENCY: Bureau of Land Management, Interior.

ACTION: Notice of Correction.

SUMMARY: The Bureau of Land Management published a Notice of Minor Amendments to the Charter of the Science Technology Advisory Panel for the North Slope Science Initiative in the Federal Register on November 5, 2007 [72 FR 62487]. This notice corrects the e-mail address of John Payne and the statement in the SUPPLEMENTARY INFORMATION section which stated that appointees would serve with monetary compensation. This sentence is corrected to read: “Appointees will serve without monetary compensation, but may be reimbursed for travel and per diem expenses at current rates for Federal government employees.”

FOR FURTHER INFORMATION CONTACT: John Payne, Executive Director, North Slope Science Initiative, Bureau of Land Management, Alaska State Office, 222 West 7th Avenue, #13, Anchorage, Alaska 99513; phone (907) 271-3431, or e-mail: john_f_payne@blm.gov.

Dated: November 8, 2007.
Thomas P. Lonnie,
State Director.

[FR Doc. E7-22568 Filed 11-16-07; 8:45 am]

BILLING CODE 4310-JA-P